DEPARTMENT OF ENERGY

Federal Energy Regulatory Commission

Combined Notice of Filings #1

March 12, 2010.

Take notice that the Commission received the following electric rate filings:

Docket Numbers: ER98-1643-017.

Applicants: Portland General Electric Company.

Description: Portland General Electric Company submits administrative revisions to its market based rate authority tariff et al.

Filed Date: 03/11/2010.

Accession Number: 20100312-0202.

Comment Date: 5 p.m. Eastern Time on Thursday, April 1, 2010.

Docket Numbers: ER10-119-000.

Applicants: New York Independent System Operator, Inc.

Description: The New York Independent System Operator, Inc submits response to the requests for information set forth in the Deficiency Letter issued 12/23/09.

Filed Date: 02/22/2010.

Accession Number: 20100223-0019.

Comment Date: 5 p.m. Eastern Time on Monday, March 22, 2010.

Docket Numbers: ER10-438-001.

Applicants: ISO New England Inc., New England Power Pool.

Description: ISO New England, Inc et al. submits Fourth Revised Sheet 7307U et al. to its FERC Electric Tariff 3—Section III—Market Rule 1—Standard Market Design et al.

Filed Date: 03/11/2010.

Accession Number: 20100312-0201.

Comment Date: 5 p.m. Eastern Time on Thursday, April 1, 2010.

Docket Numbers: ER10-458-001; ER10-459-001; ER10-460-001

Applicants: Solios Power Trading LLC; Solios Power Mid-Atlantic Trading LLC; Solios Power Midwest Trading LLC.

Description: Solios Power Trading LLC et al. submits tariff modifications.

Filed Date: 03/12/2010.

Accession Number: 20100312-0211.

Comment Date: 5 p.m. Eastern Time on Friday, April 2, 2010.

Docket Numbers: ER10-790-001.

Applicants: El Cajon Energy, LLC.

Description: El Cajon Energy, LLC submits Substitute Original Sheet No 2 et al.

Filed Date: 03/10/2010.

Accession Number: 20100311-0021.

Comment Date: 5 p.m. Eastern Time on Wednesday, March 31, 2010.

Docket Numbers: ER10-855-000.

Applicants: South Carolina Electric & Gas Company.

Description: South Carolina Electric & Gas Company submits revised Network Integration Transmission Service Agreement with an effective date of 3/10/2010.

Filed Date: 03/10/2010.

Accession Number: 20100311-0022.

Comment Date: 5 p.m. Eastern Time on Wednesday, March 31, 2010.

Docket Numbers: ER10-856-000.

Applicants: American Electric Power Service Corporation.

Description: American Electric Power Service Corporation submits amendments to the Open Access Transmission Tariff, on file with the Commission, FERC Electric Tariff, Third Revised Volume 6.

Filed Date: 03/10/2010.

Accession Number: 20100311-0023.

Comment Date: 5 p.m. Eastern Time on Wednesday, March 31, 2010.

Docket Numbers: ER10-860-000.

Applicants: Puget Sound Energy, Inc.

Description: Puget Sound Energy, Inc submits an Interconnection and Operating Agreement, dated 2/26/10, with City of Blaine, designated as FERC Rate Schedule 179, First Revised Sheet 1 et al.

Filed Date: 03/11/2010.

Accession Number: 20100312-0203.

Comment Date: 5 p.m. Eastern Time on Thursday, April 1, 2010.

Docket Numbers: ER10-861-000.

Applicants: Puget Sound Energy, Inc.

Description: Puget Sound Energy, Inc submits an Interconnection and Operating Agreement, dated 2/26/10, with City of Blaine, designated as FERC Rate Schedule 179, First Revised Sheet 1 et al.

Filed Date: 03/11/2010.

Accession Number: 20100312-0203.

Comment Date: 5 p.m. Eastern Time on Thursday, April 1, 2010.

Docket Numbers: ER10-862-000.

Applicants: Puget Sound Energy, Inc.

Description: Puget Sound Energy, Inc submits an Interconnection and Operating Agreement, dated 2/26/10, with City of Blaine, designated as FERC Rate Schedule 179, First Revised Sheet 1 et al.

Filed Date: 03/11/2010.

Accession Number: 20100312-0203.

Comment Date: 5 p.m. Eastern Time on Thursday, April 1, 2010.

Docket Numbers: ER10-863-000.

Applicants: Midwest Independent Transmission System Operator, Inc.

Description: Midwest Independent Transmission System Operator, Inc submits the Agreement of Transmission Facilities Owners, etc.

Filed Date: 03/11/2010.

Accession Number: 20100312-0030.

Comment Date: 5 p.m. Eastern Time on Thursday, April 1, 2010.

Docket Numbers: ER10-864-000.

Applicants: PJM Interconnection, L.L.C.

Description: PJM Interconnection, LLC submits fully executed Network Integration Transmission Service Agreement dated as of 2/9/2010 etc.

Filed Date: 03/12/2010.

Accession Number: 20100312-0209.

Comment Date: 5 p.m. Eastern Time on Friday, April 2, 2010.

Docket Numbers: ER10-865-000.

Applicants: Rocky Road Power, LLC.

Description: Rocky Road Power, LLC submits Rate Schedule FERC 2, which sets forth the agreed upon cost-based revenue requirement for the provision of Reactive Supply and Voltage Control from Generation Sources Service etc.

Filed Date: 03/12/2010.

Accession Number: 20100312-0210.

Comment Date: 5 p.m. Eastern Time on Friday, April 2, 2010.

Take notice that the Commission received the following electric securities filings:

Docket Numbers: ES10-5-000.

Applicants: System Energy Resources, Inc.

Description: Supplemental Information of System Energy Resources, Inc.

Filed Date: 03/11/2010.

Accession Number: 20100311-5080.

Comment Date: 5 p.m. Eastern Time on Monday, March 22, 2010.

Docket Numbers: ES10-26-000.

Applicants: PJM Interconnection, L.L.C.

Description: Supplemental Information of PJM Interconnection, L.L.C.

Filed Date: 03/10/2010.

Accession Number: 20100310-5102.

Comment Date: 5 p.m. Eastern Time on Monday, March 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-6212 Filed 3-19-10; 8:45 am]

BILLING CODE 6717-01-P